DEPARTMENT OF ENERGY

Federal Energy Regulatory Commission

[Docket No. CP19-14-000]

Mountain Valley Pipeline, LLC.; Notice of Availability of the Final Environmental Impact Statement for the Proposed Southgate Project

The staff of the Federal Energy Regulatory Commission (FERC or Commission), with the participation of the cooperating agencies listed below, has prepared a final environmental impact statement (EIS) for the Southgate Project (Project) proposed by Mountain Valley Pipeline, LLC. (Mountain Valley) in the above-referenced docket. Mountain Valley requests authorization to construct and operate about 75.1 miles of natural gas transmission pipeline, one new compressor station, and accompanying facilities that would provide about 375 million cubic feet per day of available capacity for transport from the City of Chatham, in Pittsylvania County, Virginia to a delivery point with Dominion Energy North Carolina (DENC), formerly PSNC,¹ near the City of Graham in Alamance County, North Carolina.

¹ Following a January 2, 2019 merger, Dominion Energy, Inc. acquired PSNC and changed the company name to Dominion Energy North Carolina.

The final EIS assesses the potential environmental effects of the construction and operation of the Southgate Project in accordance with the requirements of the National Environmental Policy Act (NEPA). As described in the final EIS, the FERC staff concludes that approval of the Project would result in some adverse environmental impacts; however, these impacts would be reduced to less-than-significant levels because of the impact avoidance, minimization, and mitigation measures proposed by Mountain Valley and those recommended by staff in the EIS.

The United States Army Corps of Engineers (COE) and the U.S. Department of the Interior Fish and Wildlife Service (FWS) participated as cooperating agencies in preparation of this EIS. Cooperating agencies have jurisdiction by law or special expertise with respect to resources potentially affected by the proposal and participate in the NEPA analysis. The cooperating agencies provided input into the analyses, conclusions, and recommendations presented in the EIS. Following issuance of the final EIS, the cooperating agencies will issue subsequent decisions, determinations, permits, or authorizations for the Project in accordance with each individual agency's regulatory requirements.

The COE would use this EIS in their regulatory process, and to satisfy compliance with NEPA and other related federal environmental laws (e.g., the National Historic Preservation Act).

The EIS addresses the potential environmental effects of the construction and operation of the following project facilities:

• About 75.1 miles of new 24-inch and 16-inch diameter natural gas pipeline located in Pittsylvania County, Virginia, and Rockingham and Alamance Counties, North Carolina;

• one new 28,915 horsepower compressor station (Lambert Compressor Station) in Pittsylvania County, Virginia;

• four interconnects or tie-ins with facilities operated by Mountain Valley, East Tennessee Gas, and DENC; and

• ancillary facilities including pig launchers and receivers, mainline block valves (MLV), and cathodic protection beds.

The Commission mailed a copy of the Notice of Availability of the final EIS to federal, state, and local government representatives and agencies; elected officials; environmental and public interest groups; Indian Tribes; potentially affected landowners and other interested individuals and groups; and newspapers and libraries in the area of the Project. The final EIS is available in hard copy at libraries in the area of the Project and in electronic format. It may be viewed and downloaded from the FERC's website (www.ferc.gov), on the Environmental Documents page (https://www.ferc.gov/industries/gas/enviro/eis.asp). In addition, the final EIS may be accessed by using the eLibrary link on the FERC's website. Click on the eLibrary link (https://www.ferc.gov/docs-filing/elibrary.asp), click on General Search, and enter the docket number in the Docket Number field, excluding the last three digits (i.e., CP19-14). Be sure you have selected an appropriate date range. For assistance, please contact FERC Online Support at FercOnlineSupport@ferc.gov or toll free at (866) 208-3676, or for TTY, contact (202) 502-8659.

Questions?

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: February 14, 2020.
Kimberly D. Bose,
Secretary.

[FR Doc. 2020-03790 Filed 2-25-20; 8:45 am]

BILLING CODE 6717-01-P